DEPARTMENT OF HEALTH AND HUMAN SERVICES

Office of Inspector General

Program Exclusions: August 2004

AGENCY: Office of Inspector General, HHS.

ACTION: Notice of program exclusions.

During the month of August 2004, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
PROGRAM-RELATED CONVICTIONS
AMR, HUSSEIN | 9/20/2004
TERRE HAUTE, IN
BRYCE, MELISSA | 9/20/2004
STIGLER, OK
CHE, CHANTHY | 5/11/2004
FONTANA, CA
COLLINS, DEBRA | 9/20/2004
MINFORD, OH
CONGROVE, PAMELA | 9/20/2004
POWELL, OH
CURTIS, ANTOINETTE | 9/20/2004
MILWAUKEE, WI
DEMPSEY, TRACY | 6/2/2004
NEWARK, DE
DENNIS, CRYSTAL | 9/20/2004
SEATTLE, WA
DIAB, CHRISTINA | 9/20/2004
SPRINGFIELD, VA
DINOZZI, DAVID | 9/20/2004
YOUNGWOOD, PA
DO, ALEXANDER | 9/20/2004
NAPANOCH, NY
DRUMMOND, ANNETTE | 9/20/2004
RUSHVILLE, NE
EZEBUNWA, ESTHER | 9/20/2004
SACRAMENTO, CA
GIRGIS, DIMITRI | 9/20/2004
ANNADALE, VA
GOLDEN, ILYA | 9/20/2004
LEWISBURG, PA
GREENUP, VANESSA | 9/20/2004
RESERVE, LA
HAYES, JANELLE | 9/20/2004
LAWTON, OK
HEATH, KENDALL | 9/20/2004
PICO RIVERA, CA
HUPP, BRIAN | 9/20/2004
POMEROY, OH
HUPP, KIMBERLY | 9/20/2004
POMEROY, OH
LOPEZ, KARINE | 9/20/2004
SAFFORD, AZ
MADDOCK, MICHAEL | 5/11/2004
HARBOR CITY, CA
MANN, GILDA | 9/20/2004
OLYMPIA, WA
MAYHAN, KIMBERLY | 9/20/2004
COLUMBUS, OH
PLANTS, KAREN | 9/20/2004
OKLAHOMA CITY, OK
QD'S PHARMACY, INC | 9/20/2004
WOODHAVEN, NY
REVELLI, CARMEN | 9/20/2004
LAKEWOOD, CA
SALEH, EHAB | 9/20/2004
SPRINGFIELD, VA
SALEH, WASSIM | 9/20/2004
SPRINGFIELD, VA
SHTRAKHMAN, VLADIMIR | 9/20/2004
LORETTO, PA
STANDIGE, JUDY | 9/20/2004
MULDROW, OK
VILLA, NATHAN | 9/20/2004
LOVELAND, CO
YASIN, MUHAMMAD | 9/20/2004
SUSANVILLE, CA
ZELLER, JOHN | 9/20/2004
OCEANSIDE, CA
FELONY CONVICTION FOR HEALTH CARE FRAUD
BAER, MICHAEL | 9/20/2004
LEESBURG, NJ
BAXTER-WINDLER, PATTY | 9/20/2004
AUSTINBURG, OH
BRASH, TRENT | 9/20/2004
MONACA, PA
CLOUGH, LYNNE | 9/20/2004
ALBION, NY
COOPER, ILONA | 9/20/2004
CHICKASHA, OK
COOPER, MARIE | 9/20/2004
DRUMRIGHT, OK
DAWSON, BURL | 9/20/2004
DRUMRIGHT, OK
DAWSON, KARLA | 9/20/2004
DRUMRIGHT, OK
GARABRANDT, VICTORIA | 9/20/2004
DENNISON, OH
GUIOU, MARCI | 9/20/2004
RICHMOND, ME
HAUSMANN, CHARLES | 9/20/2004
MILWAUKEE, WI
HILEMAN, ROBERT | 9/20/2004
MOHNTON, PA
LANGSTON, RHONDA | 9/20/2004
PORTLAND, IN
MADDEN, PAMELA | 9/20/2004
BURLINGTON, KY
MITCHELL, JOEL | 9/20/2004
NEWCASTLE, OK
NEWPORT, PAM | 9/20/2004
SAPULPA, OK
PAPPION, DEBORAH | 9/20/2004
OCALA, FL
REINBOLT, DANIEL | 9/20/2004
TOLEDO, OH
ROBERTS, VALERIE | 9/20/2004
RAVENEL, SC
SIMMS, BRANDI | 9/20/2004
CINCINNATI, OH
SMITH, KATHY | 9/20/2004
SACO, ME
SMITH, STEUART | 9/20/2004
DENVER, CO
STINEBUCK, JANET | 9/20/2004
DRUMRIGHT, OK
STREETER, SUSAN | 9/20/2004
SPENCER, MA
TARWATER, DOYLE | 9/20/2004
MCMURRAY, PA
TSCHINKEL, ROBERT | 9/20/2004
HUDSON, OH
WAGNER, JEAN | 9/20/2004
SHERRODSVILLE, OH
WASHBURN, JUDITH | 9/20/2004
LIBERTY HILL, TX
YOUATT, NED | 9/20/2004
ROMEO, MI
FELONY CONTROL SUBSTANCE CONVICTION
ARCHIBALD, BARBARA | 9/20/2004
PALMER, AK
ARREDONDO, NORMA | 9/20/2004
CORPUS CHRISTI, TX
BROCK, SANDRA | 9/20/2004
COLUMBUS, OH
CAMMACK, JAMES | 9/20/2004
KERRVILLE, TX
COLLINS, MATTHEW | 9/20/2004
VAN NUYS, CA
COTTER, LYNNE | 9/20/2004
CHESAPEAKE, VA
CRAIN, ADRAIN | 9/20/2004
CARUTHERSVILLE, MO
CUMRO, REBECCA | 9/20/2004
FRISCO, TX
DAVIS, DARRELL | 9/20/2004
STOCKTON, TX
DEANDREA, KRISTEN | 9/20/2004
ENGLEWOOD, CO
EAGAN, SHARON | 9/20/2004
LOUISVILLE, OH
FRASER, JOHN | 9/20/2004
RAIFORD, FL
GARDNER, RONDA | 9/20/2004
BLOOMINGTON, IN
JENKINS, CHRISTINA | 9/20/2004
WHEAT RIDGE, CO
KING, JOEL | 9/20/2004
AUSTIN, TX
KRUEGER, AMY | 9/20/2004
FORT WAYNE, IN
KUSZMAR, THADDEUS | 9/20/2004
RISING SUN, MD
LEE, GAILOR | 9/20/2004
DUNCAN, OK
LEE, KIMBERLY | 9/20/2004
HALTOM CITY, TX
LEMAR, TENE | 9/20/2004
HOUSTON, TX
MALAVE, ERNESTO | 9/20/2004
GEORGETOWN, TX
MONTGOMERY, TANYA | 9/20/2004
VANDALIA, OH
NESTLEHUT, RAQUEL | 9/20/2004
CONWAY, AR
NIX, JACKIE | 9/20/2004
EVANSVILLE, IN
PARSA, BRUCE | 9/20/2004
LEAVENWORTH, KS
PULIVARTHI, VENKATA | 9/20/2004
DALLAS, TX
ROBERTS, AARON | 9/20/2004
MANCHESTER, MO
ROPER, BONNIE | 9/20/2004
CLEARFIELD, UT
SANZENBACHER, ERIC | 9/20/2004
SALT LAKE CITY, UT
SAWYER, SUZETTE | 9/20/2004
SARATAGO SPRINGS, UT
SINGH, RAJINDER | 9/20/2004
EAST LIVERPOOL, OH
STRINGHAM, GREGORY | 9/20/2004
DALLAS, TX
STUBBINS, DONNA | 9/20/2004
WAUSEON, OH
TRUSNOVIC, WILLIAM | 9/20/2004
STEUBENVILLE, OH
PATIENT ABUSE/NEGLECT CONVICTIONS
BROWN, TRISTAN | 9/20/2004
HOUSTON, TX
CASTRO, RICARDO | 9/20/2004
MIAMI BEACH, FL
DIAZ, AURELIANO | 9/20/2004
LAKEWOOD, CO
DOMINGO, CLEOFE | 9/20/2004
WAIPAHU, HI
DOMINGO, MANNY | 9/20/2004
WAIPAHU, HI
EVANS, LINDA | 9/20/2004
RUSTON, LA
FLETCHER, MAURICE | 9/20/2004
EPPS, LA
GUNTHER, BRIAN | 9/20/2004
BRYN ATHYN, PA
HAMILTON, NICTORIA | 9/20/2004
GLENMORA, LA
HARRY, CATHERINE | 9/20/2004
AMITYVILLE, NY
HEAD, SUE | 9/20/2004
ORRTANNA, PA
JILES, DESMOND | 9/20/2004
BATESBURG-LEESVILLE, SC
KLEIN, SAMUEL | 9/20/2004
GREENWICH, CT
LANGE, AMANDA | 9/20/2004
ST CLOUD, MN
MATT, JANET | 9/20/2004
RUTLAND, VT
MAZER, JOEL | 9/20/2004
CLAWSON, MI
PIERCE, PAUL | 9/20/2004
GARLAND, TX
PITTS, ODIS | 9/20/2004
OKLAHOMA CITY, OK
POLICINO, PATRICIA | 9/20/2004
LANGHORN, PA
PUODZIUNIENE, FILIMENA | 9/20/2004
LAKEWOOD, CO
RAMIREZ, CHARLIE | 9/20/2004
LOS ANGELES, CA
SPICER, ALBERT | 9/20/2004
POUGHKEEPSIE, NY
SWEATMAN, AARON | 9/20/2004
NATCHEZ, MS
TAYLOR, LAFENUS | 9/20/2004
BALTIMORE, MD
WEIS, KELLIE | 9/20/2004
LOYALTON, CA
ZYLSTRA, JAMES | 9/20/2004
ST CLOUD, MN
CONVICTION FOR HEALTH CARE FRAUD
ELCHISCO, GEORGE | 9/20/2004
TOLEDO, OH
MCCALL, EILEEN | 9/20/2004
MERRIMACK, NH
CONVICTION-OBSTRUCTION OF AN INVESTIGATION
BISIG, PHILIP | 9/20/2004
LOUISVILLE, KY
LICENSE REVOCATION/SUSPENSION/SURRENDERED
ADAMS, VALERIE | 9/20/2004
PONCA CITY, OK
ADERMAN, BONNIE | 9/20/2004
PANA, IL
ALBRECHT, KATHLEEN | 9/20/2004
COUNCIL BLUFFS, IA
BARR, EVELYN | 9/20/2004
ANDERSON, IN
BATTAGLIA, LINDA | 9/20/2004
CAMBRIDGE, MA
BENTON, JEFFERY | 9/20/2004
TURLOCK, CA
BERG, DALRIE | 9/20/2004
WESTMINSTER, CO
BERMUDEZ, ANGELA | 9/20/2004
FONTANA, CA
BERRY, DAVID | 9/20/2004
BATON ROUGE, LA
BERRY, MELANIE | 9/20/2004
KENT, WA
BIGBY, PEGGY | 9/20/2004
NORMAN, OK
BOONE, CHRISTI | 9/20/2004
PORT LAVACA, TX
BOOTH, MICHELLE | 9/20/2004
KENT, WA
BOWLER, BRIAN | 9/20/2004
BRIGHAM CITY, UT
BRADY, VERONICA | 9/20/2004
SPANAWAY, WA
BUDWICK, CARLENA | 9/20/2004
SARATOGA SPRINGS, NY
CAIN, KARLA | 9/20/2004
MIDWEST CITY, OK
CALLAWAY, MAUREEN | 9/20/2004
HOUSTON, TX
CARTY, REBECCA | 9/20/2004
INDIANAPOLIS, IN
CLIFTON, LORETTA | 9/20/2004
PHOENIX, AZ
DAIL, JOSHUA | 9/20/2004
COLORADO SPRINGS, CO
DARBY, KENNETH | 9/20/2004
SHAKER HEIGHTS, OH
DEVENISH, JAMIE | 9/20/2004
SPRINGVILLE, UT
DONSBACH, HOLLY | 9/20/2004
SHIREMANSTOWN, PA
DRESSER, JAMES | 9/20/2004
EL CAJON, CA
EDWARDS, LEAH | 9/20/2004
NEW SMYRNA BEACH, FL
EGE, MICHAEL | 9/20/2004
DE KALB, IL
ESTRADA, MOISES | 9/20/2004
BOYES HOT SPRINGS, CA
ESTRADA, TANIA | 9/20/2004
LOS ANGELES, CA
FLORES, MARIE | 9/20/2004
PISCATAWAY, NJ
FORRESTER, MELISSA | 9/20/2004
OROVILLE, CA
GILCHRIST, MARY | 9/20/2004
PEABODY, MA
HELLMANN, JAMES | 9/20/2004
SEATTLE, WA
HENDERSON, DEMETA | 9/20/2004
HENDERSON, NV
HOLLAND, VICKEY | 9/20/2004
TUSKAHOMA, OK
JOHNSON, EMILIE | 9/20/2004
AUBURN, WA
JOLLY, SANDRA | 9/20/2004
EDWARDSVILLE, IL
JONES, SHEILA | 9/20/2004
SHREVEPORT, LA
JULIUS, CHARLEEN | 9/20/2004
RUTLAND, VT
LABONTE, MARY | 9/15/2004
SCOTTSDALE, AZ
LEEDS, JENNIFER | 9/20/2004
LEOMINSTER, MA
LEHRMAN, MONA | 9/20/2004
TULSA, OK
LINE, JASON | 9/20/2004
ST ALBANS, VT
LINSON, JEANETTE | 9/20/2004
KINGMAN, AZ
LINTAG, RODOLFO | 9/20/2004
EDISON, NJ
LOWE, AVERILL | 9/20/2004
JACKSONVILLE, FL
MANGIONE, MICHELE | 9/20/2004
WALDWICK, NJ
MCCABE, VALERIE | 9/20/2004
KEARNY, NJ
MEECE, KENNY | 9/20/2004
HOT SPRINGS, AR
MENARD, NOREEN | 9/20/2004
N BROOKFIELD, MA
MENDEZ, BRANDIE | 9/20/2004
HAUGHTON, LA
MENNE, CYNTHIA | 9/20/2004
MAPLE HEIGHTS, OH
MILLER, THOMAS | 9/20/2004
FORT MYERS, FL
MOSELEY, IDA | 9/20/2004
HENDERSON, NV
MOWER, KENNETH | 9/20/2004
LAS VEGAS, NV
NEPSA, REBECCA | 9/20/2004
MONROE, NC
NEWTON, GLENN | 9/20/2004
CLAREMORE, OK
OUSLEY, SHARON | 9/20/2004
FLORENCE, KY
PATEL, VITTHAL | 9/20/2004
AVENEL, NJ
PIERCE, WILLIAM | 9/20/2004
BERLIN, MD
POWELL, SONYA | 9/20/2004
AMARILLO, TX
ROBINSON, SHANNON | 9/20/2004
FORT SMITH, AR
ROGERS, MISTY | 9/20/2004
COTTONWOOD, AZ
ROYSTER, WILLIE | 9/20/2004
MAY, TX
ROZARIO, TERENCE | 9/20/2004
RENO, NV
RUDOLPH, LAWRENCE | 9/20/2004
EL PASO, TX
SANCHEZ, ARMANDO | 9/20/2004
HOUSTON, TX
SHAVER, STEVEN | 9/20/2004
LAS VEGAS, NV
SHORTER, LATRICE | 9/20/2004
SAN BERNARDINO, CA
SOOY, CHRISTOPHER | 9/20/2004
WOODLAND FALLS, CA
STODDARD, LARRY | 9/20/2004
LAYTON, UT
STRONG, LUTRICE | 9/20/2004
MILWAUKEE, WI
SURDY, JAMES | 9/20/2004
AUSTIN, MN
TALBOT, THOMAS | 9/20/2004
FRESNO, CA
TAYLOR, DRENDA | 9/20/2004
LAS VEGAS, NV
THOMSON, BARBARA | 9/20/2004
PEORIA, AZ
TOURAY, BRIAN | 9/20/2004
DENVER, CO
TURNER, DONNA | 9/20/2004
NORWALK, CA
TUSOW, TERRY | 9/20/2004
SUPERIOR, WI
UCKAN, EDA | 9/20/2004
CLERMONT, FL
VIENS-BAINS, AMARJIT | 9/20/2004
INDIANAPOLIS, IN
VONHOFFEN, LAURA | 9/20/2004
TREVOR, WI
WALLACE, GRETCHEN | 9/20/2004
GATESVILLE, TX
WALTERS, BLOSSOM | 9/20/2004
NAPLES, FL
WARD, BRANDY | 9/20/2004
SMITHFIELD, NC
WATSON, DONNA | 9/20/2004
RUTLAND, VT
WILDER, MARGARET | 9/20/2004
WINSTON-SALEM, NC
FEDERAL/STATE EXCLUSION/SUSPENSION
CLAYTON CARE CORPORATION | 9/20/2004
DES MOINES, IA
RAMSDEN, SUZANNE | 9/20/2004
POUGHKEEPSIE, NY
FRAUD/KICKBACKS/PROHIBITED ACTS/SETTLEMENT AGREEMENTS
BAKER, TERESA | 9/8/2003
AIDERSON, WV
BRISTOL, ROBERT | 5/6/2004
GLEN MILLS, PA
COUSER, WILLIAM | 8/3/2004
WOODINVILLE, WA
REGENCY HEALTH SERVICES, INC | 5/6/2004
FORESTVILLE, MD
ROBBINS, CLAUDE | 9/8/2003
BEAVE, WV
OWNED/CONTROLLED BY CONVICTED ENTITIES
FAMILY HEALTH CENTER, P C | 9/20/2004
CEDAR RAPIDS, IA
PATRICK J VALICENTI, D D S, P C | 9/20/2004
NEWBURGH, NY
RICARDO CASTRO, MD, PA | 9/20/2004
MIAMI BEACH, FL
DEFAULT ON HEAL LOAN
BARNES, DE ELWARD | 9/20/2004
LOS ANGELES, CA
BESSONETT, PAULA | 9/20/2004
TYLER, TX
CALOF, JAN | 9/20/2004
GRANADA HILLS, CA
CARLSON, JOANNE | 9/20/2004
ALAMEDA, CA
DAWS, MICHAEL | 7/29/2004
ENGLEWOOD, CO
MORA, MATTHEW | 9/20/2004
PLEASANTON, CA
STEPHENS, RYAN | 9/20/2004
ONTARIO, OR
TAYMOORI, ZAHRA | 9/20/2004
ENCINO, CA
OWNERS OF EXCLUDED ENTITIES
POTOCSKY, I | 9/20/2004
WEST BLOOMFIELD, MI

Dated: August 31, 2004.
Katherine B. Petrowski,
Director, Exclusions Staff, Office of Inspector General.

[FR Doc. 04-20710 Filed 9-14-04; 8:45 am]

BILLING CODE 4150-04-P